FEDERAL RETIREMENT THRIFT INVESTMENT BOARD

Sunshine Act Notice

TIME AND DATE: 10 a.m. (EST), January 8, 2001.

PLACE: 4th Floor, Conference Room 4506, 1250 H Street, NW., Washington, DC.

STATUS: Open.

MATTERS TO BE CONSIDERED:

1. Approval of the minutes of the December 11, 2000, Board member meeting.

2. Thrift Savings Plan activity report by the Executive Director.

3. Review of KPMG LLP audit reports:

(a) Access Controls and Security over the New Thrift Savings Plan Application at the United States Department of Agriculture, National Finance Center

(b) Pre-Implementation Review of the New Thrift Savings Plan System's Selected Business Processes and Data Conversion Controls at the United States Department of Agriculture, National Finance Center

CONTACT PERSON FOR MORE INFORMATION: Thomas J. Trabucco, Director, Office of External Affairs, (202) 942-1640.

Date: December 28, 2000.
Elizabeth S. Woodruff,
Secretary to the Board, Federal Retirement Thrift Investment Board.

[FR Doc. 00-33461 Filed 12-28-00; 4:36 pm]

BILLING CODE 6760-01-M